FEDERAL RESERVE SYSTEM

Change in Bank Control Notices; Formations of, Acquisitions by, and Mergers of Bank Holding Companies; Correction

This notice corrects a notice (FR Doc. 2012-08198) published on page 20635 of the issue for Thursday, April 5, 2012.

Under the Federal Reserve Bank of Kansas City heading, the entry for Arthur L. Loomis, II, Patricia A. Loomis, Genevieve E. Loomis, and Julia P. Loomis, all of Niskayuna, New York; Frederick S. Loomis, Anne M. Loomis, and J. Porter Loomis, all of Pratt, Kansas; Howard K. Loomis, Jr., Karen P. Loomis, Katherine P. Loomis, Margaret P. Loomis, and Victoria K. Loomis, all of Los Gatos, California, as individuals and/or trustees of the 2011 Arthur L. Loomis, II Gift Trust, Julia P. Loomis Revocable Trust, Arthur L. Loomis, II Revocable Trust, Genevieve E. Loomis Revocable Trust, all of Niskayuna, New York; Howard K. Loomis Revocable Trust, 2010 Howard K. Loomis Irrevocable Family Trust, Porter Legacy Trust, Florence Porter Loomis Trust, 2010 Florence Porter Loomis Irrevocable Family Trust, 2011 Frederick S. Loomis Gift Trust, 2011 J. Porter Loomis Gift Trust, all of Pratt, Kansas; 2011 Howard K. Loomis Jr. Gift Trust, The Loomis 1993 Revocable Trust, both of Los Gatos, California; and Flopper, L.P., How-Kan, L.P., and Driftwood, LLC, all of Pratt, Kansas; and all as members of the Loomis Family Group, is revised to read as follows:

A. Federal Reserve Bank of Kansas City (Dennis Denney, Assistant Vice President) 1 Memorial Drive, Kansas City, Missouri 64198-0001:

1. Arthur L. Loomis, II, Patricia A. Loomis, Genevieve E. Loomis, and Julia P. Loomis, all of Niskayuna, New York; Florence Porter Loomis, Frederick S. Loomis, Anne M. Loomis, and J. Porter Loomis, all of Pratt, Kansas; Howard K. Loomis, Jr., Karen P. Loomis, Katherine P. Loomis, Margaret P. Loomis, and Victoria K. Loomis, all of Los Gatos; California, as individuals and/or trustees of the 2011 Arthur L. Loomis, II Gift Trust, the Julia P. Loomis Revocable Trust, the Arthur L. Loomis, II Revocable Trust, the Genevieve E. Loomis Revocable Trust, all of Niskayuna, New York; the Howard K. Loomis Revocable Trust, the 2010 Howard K. Loomis Irrevocable Family Trust, the Porter Legacy Trust, Florence Porter Loomis Trust, the 2010 Florence Porter Loomis Irrevocable Family Trust, the 2011 Frederick S. Loomis Gift Trust, the 2011 J. Porter Loomis Gift Trust, all of Pratt, Kansas; the 2011 Howard K. Loomis Jr. Gift Trust, The Loomis 1993 Revocable Trust, both of Los Gatos, California; and Flopper, L.P., How-Kan, L.P., and Driftwood, LLC, all of Pratt, Kansas; and all as members of the Loomis Family Group, to retain control of Krey Co. Ltd., and thereby indirectly retain control of The Peoples Bank, both in Pratt, Kansas.

Comments on this application must be received by April 20, 2012.

Board of Governors of the Federal Reserve System, April 11, 2012.
Robert deV. Frierson,
Deputy Secretary of the Board.

[FR Doc. 2012-9033 Filed 4-13-12; 8:45 am]

BILLING CODE 6210-01-P